DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Administrator of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Administrator, Office of Trade Adjustment Assistance, at the address shown below, no later than August 10, 2020.

Interested persons are invited to submit written comments regarding the subject matter of the investigations to the Administrator, Office of Trade Adjustment Assistance, at the address shown below, not later than August 10, 2020.

The petitions filed in this case are available for inspection at the Office of the Administrator, Office of Trade Adjustment Assistance, Employment and Training Administration, U.S. Department of Labor, Room N-5428, 200 Constitution Avenue NW, Washington, DC 20210.

Signed at Washington, DC, this 9th day of July 2020.
Hope D. Kinglock,
Certifying Officer, Office of Trade Adjustment Assistance.

Appendix

77 TAA Petitions Instituted Between 6/1/20 and 6/30/20
TA-W | Subject firm (petitioners) | Location | Date of institution | Date of petition
95949 | American Woodmark Corporation (State/One-Stop) | Gas City, IN | 06/01/20 | 05/29/20
95950 | Kountry Wood Products (State/One-Stop) | Nappanee, IN | 06/01/20 | 05/29/20
95951 | MasterBrand Cabinets, Inc. (State/One-Stop) | Jasper, IN | 06/01/20 | 05/29/20
95952 | MasterBrand Cabinets, Inc. (State/One-Stop) | Grants Pass, OR | 06/01/20 | 05/29/20
95953 | Nokia of America Corporation (State/One-Stop) | Naperville, IL | 06/01/20 | 05/29/20
95954 | ClosetMaid (Company) | Belle Vernon, PA | 06/02/20 | 05/28/20
95955 | Gerdau Ameristeel US Inc. (State/One-Stop) | Saint Paul, MN | 06/02/20 | 06/01/20
95956 | Halliburton Energy Services (Workers) | Duncan, OK | 06/02/20 | 05/28/20
95957 | Woodcraft Industries, Inc. (State/One-Stop) | Foreston, MN | 06/02/20 | 06/01/20
95958 | Cambria Fabshop—Indianapolis LLC (State/One-Stop) | Greenfield, IN | 06/04/20 | 06/03/20
95959 | Masterbrand Cabinets, Inc. (State/One-Stop) | Cottonwood, MN | 06/04/20 | 06/03/20
95960 | Woodmont Cabinetry, Inc. (State/One-Stop) | Dallas, TX | 06/04/20 | 06/03/20
95961 | Allscripts Healthcare Solutions Inc. (State/One-Stop) | Broomfield, CO | 06/05/20 | 05/04/20
95962 | Bridgewood Cabinets (State/One-Stop) | Chanute, KS | 06/05/20 | 06/04/20
95963 | Donaldson (State/One-Stop) | Frankfort, IN | 06/05/20 | 06/04/20
95964 | Medallion (ACPI Wood Product, LLC, FKA Elkay Cabinetry) (State/One-Stop) | Waconia, MN | 06/05/20 | 06/04/20
95965 | United States Steel (Union) | Lorain, OH | 06/05/20 | 06/03/20
95966 | BT Americas (State/One-Stop) | Westminster, CO | 06/08/20 | 06/04/20
95967 | Manchester Tank (State/One-Stop) | Elkhart, IN | 06/08/20 | 06/05/20
95968 | MasterBrand Cabinets, Inc. (State/One-Stop) | Lynchburg, VA | 06/08/20 | 06/05/20
95969 | Piramal Glass USA, Inc. (State/One-Stop) | Park Hills, MO | 06/08/20 | 06/05/20
95970 | Pittsburgh Glass Works LLC (Union) | Evansville, IN | 06/08/20 | 06/05/20
95971 | WhiteFront Cafe, Grandma's Place LLC (Workers) | Barberton, OH | 06/08/20 | 06/07/20
95972 | Masco Cabinetry (State/One-Stop) | Mount Jackson, VA | 06/09/20 | 06/08/20
95973 | Dell Corporation (State/One-Stop) | Eden Prairie, MN | 06/10/20 | 06/08/20
95974 | Dura Supreme LLC (State/One-Stop) | Howard Lake, MN | 06/10/20 | 06/08/20
95975 | Kimberly Clark Corporation—Conway Facility (Workers) | Conway, AR | 06/10/20 | 06/03/20
95976 | Mednax Health Solutions (State/One-Stop) | Arlington, TX | 06/10/20 | 06/09/20
95977 | MSSC US, Inc—Hopkinsville Manufacturing Operations (State/One-Stop) | Hopkinsville, KY | 06/10/20 | 06/09/20
95978 | Agrati Inc. (State/One-Stop) | Valparaiso, IN | 06/11/20 | 06/10/20
95979 | Canyon Creek Cabinet Company (State/One-Stop) | Monroe, WA | 06/11/20 | 06/10/20
95980 | Tektronix Inc. (State/One-Stop) | Beaverton, OR | 06/11/20 | 06/10/20
95981 | Aludyne-New York (State/One-Stop) | Batavia, NY | 06/12/20 | 06/11/20
95982 | Gannett Publishing Services (State/One-Stop) | Indianapolis, IN | 06/12/20 | 06/11/20
95983 | HomeAdvisor (State/One-Stop) | Indianapolis, IN | 06/12/20 | 06/11/20
95984 | IBM (Workers) | Armonk, NY | 06/12/20 | 06/11/20
95985 | Liberty Oilfield Services (State/One-Stop) | Henderson, CO | 06/12/20 | 06/11/20
95986 | Flexsteel Industries (State/One-Stop) | Dubuque, IA | 06/15/20 | 06/12/20
95987 | MasterBrand Cabinets, Inc. (State/One-Stop) | Aurthur, IL | 06/15/20 | 06/12/20
95988 | Team Industries (Workers) | Andrews, NC | 06/15/20 | 06/12/20
95989 | Capgemini Inc. (Workers) | Burbank, CA | 06/16/20 | 06/15/20
95990 | Medallion Cabinetry (ACPI Wood Product, LLC) (State/One-Stop) | Culver, IN | 06/16/20 | 06/15/20
95991 | Lacava LLC (State/One-Stop) | Chicago, IL | 06/17/20 | 06/12/20
95992 | Nortech Graphics Inc. (State/One-Stop) | Lead Hill, AR | 06/17/20 | 06/16/20
95993 | PTC Alliance—Beaver Falls 1 (Union) | Beaver Falls, PA | 06/17/20 | 06/16/20
95994 | Seagate Technology (State/One-Stop) | Bloomington, MN | 06/17/20 | 06/16/20
95995 | Technicolor Home Entertainment Services Southeast, LLC (Company) | Huntsville, AL | 06/17/20 | 06/16/20
95996 | Georgica Pine Clothiers DBA J.McLaughlin (State/One-Stop) | Brooklyn, NY | 06/18/20 | 06/17/20
95997 | Panther Creek Mining (Workers) | Dawes, WV | 06/18/20 | 06/17/20
95998 | Sonova USA formerly Unitron US Inc. (State/One-Stop) | Plymouth, MN | 06/18/20 | 06/17/20
95999 | TouchSensor Technologies, LLC, a subsidiary of Methode Electronics (Workers) | Wheaton, IL | 06/18/20 | 06/17/20
96000 | IBM, Jones Lang LaSalle Incorporated (JLL), and Allied Universal Security S (State/One-Stop) | Rochester, NY | 06/18/20 | 06/17/20
96001 | Cabinetworks Group (Company) | Mount Union, PA | 06/19/20 | 06/18/20
96002 | The Homer Laughlin China Company (Union) | Newell, WV | 06/19/20 | 06/19/20
96003 | Thyssen Krupp Aerospace (State/One-Stop) | Hutchinson, KS | 06/19/20 | 06/18/20
96004 | Allianz Global Corporate and Specialty SE (State/One-Stop) | O'Fallon, MO | 06/22/20 | 06/19/20
96005 | Bank of New York Mellon (State/One-Stop) | Oriskany, NY | 06/22/20 | 06/19/20
96006 | Bed Bath & Beyond Inc. (State/One-Stop) | Layton, UT | 06/22/20 | 06/19/20
96007 | Nikki America Fuel Systems, LLC (Company) | Auburn, AL | 06/22/20 | 06/19/20
96008 | Meta Coaters (Union) | Ambridge, PA | 06/23/20 | 04/22/20
96009 | PCC Structurals, Inc. (State/One-Stop) | Portland, OR | 06/23/20 | 06/22/20
96010 | PCC Structurals SSBO (State/One-Stop) | Clackamas, OR | 06/23/20 | 06/22/20
96011 | Truck-Lite (Company) | Falconer, NY | 06/23/20 | 05/28/20
96012A | TE Connectivity (Company) | Winston Salem, NC | 06/24/20 | 06/23/20
96012 | TE Connectivity (Company) | Greensboro, NC | 06/24/20 | 06/23/20
96013 | Pacific (State/One-Stop) | Cheriton, VA | 06/26/20 | 06/25/20
96014 | Bank of New York Mellon (State/One-Stop) | Oriskany, NY | 06/29/20 | 06/26/20
96015 | Conversant (State/One-Stop) | San Francisco, CA | 06/29/20 | 06/26/20
96016 | Daltile Corporation (Company) | Lewisport, KY | 06/29/20 | 06/26/20
96017 | FXI a subsidiary of FXI Holdings, Inc. (State/One-Stop) | Corry, PA | 06/29/20 | 06/26/20
96018 | Lee Hecht Harrison, LLC (Workers) | Maitland, FL | 06/29/20 | 06/10/20
96019 | Verso Corporation—Duluth Mill (State/One-Stop) | Duluth, MN | 06/29/20 | 06/26/20
96020 | Abbco Service Corporation (Company) | Evansville, IN | 06/30/20 | 06/29/20
96021 | Dayco Products, LLC (Company) | Roseville, MI | 06/30/20 | 06/29/20
96022 | Exacta Aerospace (State/One-Stop) | Wichita, KS | 06/30/20 | 06/29/20
96023 | Pratt & Larson Ceramics (State/One-Stop) | Portland, OR | 06/30/20 | 06/29/20
96024 | Winoa USA (State/One-Stop) | Bedford, VA | 06/30/20 | 06/29/20

[FR Doc. 2020-16634 Filed 7-30-20; 8:45 am]

BILLING CODE 4510-FN-P